DEPARTMENT OF COMMERCE

National Oceanic and Atmospheric Administration

50 CFR Part 648

[Docket No. 040112010-4114-02; I.D. 063005A]

Magnuson-Stevens Fishery Conservation and Management Act Provisions; Fisheries of the Northeastern United States; Northeast Multispecies Fishery; Modification of Access to the Eastern U.S./Canada Area

AGENCY: National Marine Fisheries Service (NMFS), National Oceanic and Atmospheric Administration (NOAA), Commerce.

ACTION: Temporary rule; access and gear modification.

SUMMARY: The Administrator, Northeast Region, NMFS (Regional Administrator), has projected that the total allowable catch (TAC) for Georges Bank (GB) cod allocated for harvest from the Eastern U.S./Canada Area will be fully harvested prior to the end of the fishing year if the rate of GB cod harvest remains at the current level. In response, this action limits all Northeast (NE) multispecies days-at-sea (DAS) vessels to one trip into the Eastern U.S./Canada Area per month through the end of the 2005 fishing year. In addition, this action requires all NE multispecies DAS vessels fishing in the Eastern U.S./Canada Area to use a haddock separator trawl for the remainder of the fishing year. This action is being taken to slow the rate of GB cod harvest from the Eastern U.S./Canada Area and to prolong access to the Eastern U.S./Canada Area throughout the 2005 fishing year and to help prevent over-harvesting the GB cod TAC from the Eastern U.S./Canada Area during the 2005 fishing year in accordance with the Magnuson-Stevens Fishery Conservation and Management Act.

DATES: The requirement that NE multispecies DAS vessels are limited to one trip per month into the Eastern U.S./Canada Area is effective 0001 hr local time, July 12, 2005, through 2400 hr local time, April 30, 2006. Two exceptions to this one trip per month requirement are discussed in the supplementary information section of this temporary rule.

The requirement for NE multispecies DAS vessels to use a haddock separator trawl in the Eastern U.S./Canada Area is effective 0001 hr local time, July 27, 2005, through 2400 hr local time, April 30, 2006.

FOR FURTHER INFORMATION CONTACT: Douglas W. Christel, Fishery Policy Analyst, phone (978) 281-9141, fax (978) 281-9135.

SUPPLEMENTARY INFORMATION: Regulations governing fishing activity in the U.S./Canada Management Area are found at 50 CFR 648.85(a)(3). The U.S./Canada Resource Sharing Understanding implemented by Amendment 13 to the NE Multispecies FMP (April 27, 2004; 69 FR 22906) established hard TACs for GB cod, GB haddock, and GB yellowtail flounder. The hard TACs for GB cod and GB haddock are specific to the Eastern U.S./Canada Area while the hard TAC for GB yellowtail flounder applies to vessel operations in both the Eastern and Western U.S./Canada Areas. The final GB cod TAC allocation for the 2005 fishing year is specified at 260 mt (July 7, 2005; 70 FR 39190). These TACs are monitored using catch information obtained from vessel monitoring system (VMS) catch reports, observer data, and other available information.

Once the Regional Administrator projects that any one of these TACs have been caught, the Regional Administrator is required to close the Eastern U.S./Canada Area to all NE multispecies DAS vessels pursuant to § 648.85(a)(3)(iv)(E). To prevent the fishery from over-harvesting these species, the Regional Administrator may implement regulations intended to slow the rate of harvest of these species once the Regional Administrator projects that 30 percent and/or 60 percent of the TAC allocations for GB cod, GB haddock, or GB yellowtail flounder have been harvested, as specified at § 648.85(a)(3)(iv)(D). These regulations provide the Regional Administrator with the authority to modify gear requirements and modify or close access to the U.S./Canada Management Areas, among other provisions.

Based upon available information, to date, NE multispecies DAS vessels have harvested over 50 percent of the GB cod TAC. At this rate, the GB cod TAC would be harvested well before the end of the 2005 fishing year on April 30, 2006. Based on this information, and the rate at which GB cod is being harvested, this action limits NE multispecies DAS vessels to one trip into the Eastern U.S./Canada Area per month for the remainder of the 2005 fishing year. Vessels that have already declared their intent to fish in the Eastern U.S./Canada Area (VMS Area Codes 2, 5, or 6) through VMS, departed on a trip, and crossed the demarcation line as of 0001 hours on July 12, 2005, may finish their trip. Any trip that began before July 12, 2005, will not count toward the one trip per month limit for the month of July. A trip will be counted toward the month in which the vessel started a trip into the Eastern U.S./Canada Area by declaring into the Eastern U.S./Canada Area through VMS and crossing the VMS demarcation line. This measure is intended to slow the rate of harvest of GB cod, while allowing continued access to GB haddock and GB yellowtail flounder within the Eastern U.S./Canada Area. This would help achieve optimum yield in the fishery during the 2005 fishing year. To allow the fishery to continue at its current harvest rate for GB cod could necessitate closure of the Eastern U.S./Canada Area before the full harvest of the GB haddock and GB yellowtail flounder TACs in place for this area, in order to ensure that the GB cod TAC is not exceeded during the 2005 fishing year.

This action also requires that all NE multispecies DAS vessels must use a haddock separator trawl when fishing in the Eastern U.S./Canada Area. This net is intended to allow vessels to continue to target the available GB haddock without catching substantial amounts of GB cod. Research highlighted in the environmental assessment prepared for Framework Adjustment 40-A to the FMP has shown that this net, if used properly, is capable of substantially reducing the amount of cod caught when compared to haddock. Vessels may continue to fish for GB yellowtail flounder in the Western U.S./Canada using any other gear allowed in the regulations under § 648.80(a) to fully harvest the U.S. portion of the TAC for GB yellowtail flounder. Therefore, this action is intended to prolong opportunities to fully harvest the GB haddock TAC in the Eastern U.S./Canada Area without compromising opportunities to fully harvest the GB yellowtail flounder TAC from the Western U.S./Canada Area.

Classification

This action is required by 50 CFR part 648 and is exempt from review under Executive Order 12866.

Pursuant to 5 U.S.C. 553(b)(B), the Assistant Administrator finds good cause to waive prior notice and opportunity for public comment for this action as notice and comment would be impracticable and contrary to the public interest. Given the relatively small GB cod TAC for the Eastern U.S./Canada Area during the 2005 fishing year and the very rapid rate at which the GB cod TAC has been harvested to date, it would be impracticable for NMFS to provide for prior notice and opportunity for public comment because this would likely prevent the agency from slowing the rate of GB cod catch within the Eastern U.S./Canada Area before the TAC is fully harvested. To allow vessels to continue fishing on GB cod at the recent catch rate during the period necessary to publish and receive comments on a proposed rule would result in the continued harvest of GB cod, potentially increasing the potential for the groundfish fishery to exceed the GB cod TAC for the Eastern U.S./Canada Area during the 2005 fishing year. Exceeding the GB cod TAC during the 2005 fishing year would require any overages to be deducted from the 2006 GB cod TAC for the Eastern U.S./Canada Area. This would result in decreased revenue for the NE multispecies fishery, increased economic impacts to vessels operating in the Eastern U.S./Canada Area, reduced opportunities to fully harvest the GB haddock and GB yellowtail flounder TACs in the Eastern U.S./Canada Area (i.e., through the increased possibility of premature closure of the Eastern U.S./Canada Area during the 2006 fishing year due to fully harvesting a reduced GB cod TAC in 2006), a reduced chance of achieving optimum yield in the groundfish fishery, and unnecessary delays to the rebuilding of this overfished stock.

For similar reasons, the Assistant Administrator finds good cause, pursuant to 5 U.S.C. 553(d)(3), to waive the entire 30-day delayed effectiveness period for the measure limiting NE multispecies DAS vessels to one trip into the Eastern U.S./Canada Area per month and half of the 30-day delayed effectiveness period for the measure to require all NE multispecies DAS vessels to use a haddock separator trawl in the Eastern U.S./Canada Area. For the reasons specified above, a delay in the effectiveness of the access modification in this rule would prevent the agency from slowing the rate of GB cod catch within the Eastern U.S./Canada Area before the TAC is fully harvested and potentially exceeded during the 2005 fishing year. Any such delay could lead to the impacts to the fishing industry described above. Regulations at § 648.85(a)(3)(iii) require any NE multispecies DAS vessel fishing in the Eastern U.S./Canada Area to use either a haddock separator trawl or a modified flatfish net to facilitate the escapement of cod when targeting haddock or flatfish species, respectively. Because of the need to immediately slow the harvest of GB cod from the Eastern U.S./Canada Area, a full 30-day delayed effectiveness period for the gear restrictions implemented by this action would compromise the effectiveness of this regulatory change. The use of a haddock separator trawl would allow the fishing industry to continue to target GB haddock and help better achieve optimum yield from the resource without compromising efforts that would enable the agency to slow GB cod harvest before the TAC is fully achieved and prevent the TAC from being exceeded. Although most vessels operating in the Eastern U.S./Canada Area already possess and use a haddock separator trawl, not every NE multispecies DAS vessel eligible to fish in this area is likely to possess a haddock separator trawl at this time. Therefore, it is necessary to allow these vessels the opportunity to purchase and install a haddock separator trawl prior to the effective date of this provision. A 15-day delayed effectiveness should provide the industry with sufficient opportunity to modify existing trawl gear to comply with the separator trawl requirement specified in this action, as the materials and expertise needed to modify existing gear are readily available. Finally, the rate of harvest of GB cod in the Eastern U.S./Canada Area is updated weekly on NMFS' Northeast Regional Office website at http://www.nero.noaa.gov. Accordingly, the public is able to obtain information that would provide at least some advanced notice of a potential action to slow the harvest rate or to close the Eastern U.S./Canada Area, thereby minimizing the need for a delayed effectiveness.

Authority: 16 U.S.C. 1801 et seq.

Dated: July 7, 2005.
Alan D. Risenhoover
Acting Director, Office of Sustainable Fisheries, National Marine Fisheries Service.

[FR Doc. 05-13673 Filed 6-7-05; 2:23 pm]

BILLING CODE 3510-22-S